DEPARTMENT OF DEFENSE

48 CFR Part 252

[DFARS Case 2000-D302]

Defense Federal Acquisition Regulation Supplement; Caribbean Basin Country End Products

AGENCY: Department of Defense (DoD).

ACTION: Final rule.

SUMMARY: DoD has adopted as final, without change, an interim rule amending the Defense Federal Acquisition Regulation Supplement (DFARS) to implement section 211 of the United States-Caribbean Basin Trade Partnership Act and determinations of the United States Trade Representative as to which countries qualify for enhanced trade benefits under that Act.

EFFECTIVE DATE: January 29, 2002.

FOR FURTHER INFORMATION CONTACT: Ms. Amy Williams, Defense Acquisition Regulations Council, OUSD(AT&L)DP(DAR), IMD 3C132, 3062 Defense Pentagon, Washington, DC 20301-3062. Telephone (703) 602-0288; facsimile (703) 602-0350. Please cite DFARS Case 2000-D302.

SUPPLEMENTARY INFORMATION:

A. Background

This rule implements Section 211 of the United States-Caribbean Basin Trade Partnership Act (Title II of Public Law 106-200) and determinations of the United States Trade Representative published at 65 FR 60236 on October 10, 2000; 65 FR 69988 on November 21, 2000; and 65 FR 78527 on December 15, 2000. The rule amends the clauses at DFARS 252.225-7007, Buy American Act—Trade Agreements—Balance of Payments Program, and 252.225-7021, Trade Agreements, to remove Panama from the definition of “Caribbean Basin country” and to clarify which Caribbean Basin country products are subject to duty-free treatment.

DoD published an interim rule at 66 FR 47112 on September 11, 2001. DoD received no comments on the interim rule. Therefore, DoD is converting the interim rule to a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule affects only a limited number of textile and apparel articles from certain Caribbean Basin countries. Other statutory requirements still prohibit DoD from acquiring most of these articles from other than domestic sources.

C. Paperwork Reduction Act

The Paperwork Reduction Act does not apply because the rule does not impose any information collection requirements that require the approval of the Office of Management and Budget under 44 U.S.C. 3501, et seq.

List of Subjects in 48 CFR Part 252

Government procurement.

Michele P. Peterson,
Executive Editor, Defense Acquisition Regulations Council.

Interim Rule Adopted as Final Without Change

Accordingly, the interim rule amending 48 CFR Part 252, which was published at 66 FR 47112 on September 11, 2001, is adopted as a final rule without change.

[FR Doc. 02-2053 Filed 1-28-02; 8:45 am]

BILLING CODE 5001-08-U